DEPARTMENT OF COMMERCE

National Oceanic and Atmospheric Administration

50 CFR Part 679

[Docket No. 101126522-0640-02]

RIN 0648-XA544

Fisheries of the Exclusive Economic Zone Off Alaska; Pacific Ocean Perch, Northern Rockfish, and Pelagic Shelf Rockfish in the Western Regulatory Area and the West Yakutat District of the Gulf of Alaska

AGENCY: National Marine Fisheries Service (NMFS), National Oceanic and Atmospheric Administration (NOAA), Commerce.

ACTION: Temporary rule; closure.

SUMMARY: NMFS is prohibiting directed fishing for Pacific ocean perch, northern rockfish, and pelagic shelf rockfish by catcher/processors participating in the limited access or opt-out fisheries that are subject to sideboard limits established under the Central Gulf of Alaska (GOA) Rockfish Program in the Western Regulatory Area and West Yakutat district of the GOA. This action is necessary to prevent exceeding the 2011 sideboard limits of Pacific ocean perch, northern rockfish, and pelagic shelf rockfish established for catcher/processors participating in the limited access or opt-out fisheries in the Western Regulatory Area and West Yakutat district of the GOA.

DATES: Effective 1200 hrs, Alaska local time (A.l.t.), July 1, 2011, through 1200 hrs, A.l.t., July 31, 2011.

FOR FURTHER INFORMATION CONTACT: Steve Whitney, 907-586-7269.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2011 pelagic shelf rockfish sideboard limit established for catcher/processors participating in the limited access or opt-out fisheries that are subject to sideboard limits in the Central GOA Rockfish Program in the Western Regulatory Area is 0.4 mt.

The 2011 pelagic shelf rockfish and Pacific ocean perch in the West Yakutat district, and Pacific ocean perch and northern rockfish in the Western Regulatory Area sideboard limits established for catcher/processors participating in the limited access or opt-out fisheries that are subject to sideboard limits in the Central GOA Rockfish Program is 0 mt. The sideboard limits are established by the final 2011 and 2012 harvest specifications for groundfish of the GOA (76 FR 11111, March 1, 2011) and as posted as the 2011 Rockfish Program Catcher/Processor Sideboards at http://alaskafisheries.noaa.gov/sustainablefisheries/goarat/default.htm.

In accordance with § 679.82(d)(7)(i)(A), the Administrator, Alaska Region, NMFS (Regional Administrator), has determined that the 2011 pelagic shelf rockfish sideboard limit established for catcher/processors participating in the limited access or opt-out fisheries in the Western Regulatory Area will soon be reached. Therefore, the Regional Administrator is establishing a directed fishing allowance of 0 mt, and is setting aside the remaining 0.4 mt as bycatch to support other anticipated groundfish fisheries. In accordance with § 679.82(d)(7)(ii), the Regional Administrator finds that this directed fishing allowance will soon be reached. Consequently, NMFS is prohibiting directed fishing for the Pacific ocean perch, northern rockfish, and pelagic shelf rockfish sideboard limits established for catcher/processors participating in the limited access or opt-out fisheries in the Western Regulatory Area and West Yakutat district of the GOA.

After the effective date of this closure the maximum retainable amounts at § 679.20(e) and (f) apply at any time during a trip.

Classification

This action responds to the best available information recently obtained from the fishery. The Assistant Administrator for Fisheries, NOAA, (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the closure of pelagic shelf rockfish, northern rockfish, and Pacific ocean perch sideboard limits for catcher/processors participating in the limited access or opt-out fisheries in the Western Regulatory Area and the West Yakutat district of the GOA. NMFS was unable to publish a notice providing time for public comment because the most recent, relevant data only became available as of June 30, 2011.

The AA also finds good cause to waive the 30-day delay in the effective date of this action under 5 U.S.C. 553(d)(3). This finding is based upon the reasons provided above for waiver of prior notice and opportunity for public comment.

This action is required by § 679.82 and is exempt from review under Executive Order 12866.

Authority: 16 U.S.C. 1801 et seq.

Dated: July 1, 2011.
James P. Burgess,
Acting Director, Office of Sustainable Fisheries, National Marine Fisheries Service.

[FR Doc. 2011-17046 Filed 7-1-11; 4:15 pm]

BILLING CODE 3510-22-P